SMALL BUSINESS ADMINISTRATION

Public Federal Regulatory Enforcement Fairness Hearing; Region IV Regulatory Fairness Board

The Small Business Administration Region IV Regulatory Fairness Board and the SBA Office of the National Ombudsman will hold a Public Hearing on Friday, May 21, 2004 at 1:30 p.m. at the Orange County Convention Center, 9800 International Drive, Orlando, FL 32819-8111, to receive comments and testimony from small business owners, small government entities, and non-profit organizations concerning regulatory enforcement and compliance actions taken by federal agencies.

Anyone wishing to attend or to make a presentation must contact Jose Mendez in writing or by fax, in order to be put on the agenda. José Méndez, Event Coordinator, SBA Office of the National Ombudsman, 409 3rd Street, SW., Suite 7125, Washington, DC 20416, phone (202) 205-6178, fax (202) 481-2707, e-mail: jose.mendez@sba.gov.

For more information, see our Web site at http://www.sba.gov/ombudsman.

Dated: May 5, 2004.
Peter Sorum,
Senior Advisor, Office of the National Ombudsman.

[FR Doc. 04-10612 Filed 5-10-04; 8:45 am]

BILLING CODE 8025-01-P